DEPARTMENT OF ENERGY

Federal Energy Regulatory Commission

[Docket No. EL06-45-000]

El Paso Electric Company, Complainant, v. Tucson Electric Power Company, Respondent; Notice of Complaint

January 11, 2006.

Take notice that on January 10, 2006, El Paso Electric Company (EPE) filed a formal Complaint against Tucson Electric Power Company (TEP) pursuant to 18 CFR 385.206 of the Commission regulations, alleging that TEP has asserted its intent to transmit power generated at the Luna generating facility on EPE's transmission system from the Luna substation near Deming, New Mexico to interconnection points at Springerville and/or Greenlee, Arizona, but that TEP does not have, and has failed to acquire, contractual right to do so. EPE seeks interim relief to assure that testing of the Luna generating facility will not be adversely affected. TEP states that subject to the grant of such relief, it is the only party affected by the complaint.

EPE states that copies of the complaint were served on the contacts for TEP.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 30, 2006.

Magalie R. Salas,
Secretary.

[FR Doc. E6-550 Filed 1-18-06; 8:45 am]

BILLING CODE 6717-01-P